DEPARTMENT OF AGRICULTURE

Food Safety and Inspection Service

[Docket No. FSIS-2014-0006]

Codex Alimentarius Commission: Meeting of the Codex Committee on Processed Fruits and Vegetables

AGENCY: Office of the Under Secretary for Food Safety, USDA.

ACTION: Notice of public meeting and request for comments.

SUMMARY: The Office of the Under Secretary for Food Safety, United States Department of Agriculture (USDA), and the Agricultural Marketing Service (AMS), are sponsoring a public meeting on August 12, 2014. The objective of the public meeting is to provide information and receive public comments on agenda items and draft United States positions to be discussed at the 27th Session of the Codex Committee on Processed Fruits and Vegetables (CCPFV) of the Codex Alimentarius Commission (Codex), taking place in Philadelphia, Pennsylvania from September 8-12, 2014. The Under Secretary for Food Safety and the Agricultural Marketing Service recognize the importance of providing interested parties the opportunity to obtain background information on the 27th Session of CCPFV and to address items on the agenda.

DATES: The public meeting is scheduled for Tuesday, August 12, 2014, from 1:00-4:00 p.m.

ADDRESSES: The public meeting will take place at The United States Department of Agriculture (USDA), Jamie L. Whitten Building, 1400 Independence Avenue SW., Room 107-A, Washington, DC 20250. Documents related to the 27th session of CCPFV will be accessible via Internet at the following address: http://www.codexalimentarius.org/meetings-reports/en/.

Dorian LaFond, U.S. Delegate to the 27th session of CCPFV, invites U.S. interested parties to submit their comments electronically to the following email address: dorian.lafond@usda.gov.

Call In Number:

If you wish to participate in the public meeting for the 27th session of CCPFV by conference call, Please use the call in number and participant code listed below:

Call in Number: 1-888-844-9904

The participant code will be posted on the following Web page: http://www.fsis.usda.gov/wps/portal/fsis/topics/international-affairs/us-codex-alimentarius/public-meetings.

For Further Information About The 27th Session of CCPFV Contact: Dorian LaFond, Agricultural Marketing Service, Fruits and Vegetables Division, Stop 0235-Room 2086, South Building, 1400 Independence Ave. SW., Washington, DC 20250-0235; Phone: (202) 690-4944, Fax: (202) 720-0016 Email: dorian.lafond@usda.gov.

For Further Information About The Public Meeting Contact: Doreen Chen-Moulec, U.S. Codex Office, 1400 Independence Avenue SW., Room 4865, Washington, DC 20250; Phone: (202) 205-7760, Fax: (202) 720-3157, Email: Doreen.Chen-Moulec@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure fair practices in the food trade.

The CCPFV is responsible for: elaborating worldwide standards and related texts for all types of processed fruits and vegetables including but not limited to canned, dried and frozen products as well as fruit and vegetable juices and nectars.

The Committee is hosted by the United States.

Issues To Be Discussed at the Public Meeting

The following items on the Agenda for the 27th session of CCPFV will be discussed during the public meeting:

• Draft Standard for Certain Canned Fruits

• Proposed Draft Annexes on Specific Canned Fruits

• Draft Standard for Certain Quick Frozen Vegetables

• Proposed Draft Annexes on Specific Quick Frozen Vegetables

• Proposed Draft Standard for Ginseng Products

• Methods of Analysis for Canned Fruits and Quick Frozen Vegetables

• Food additive provisions in Certain Standards for Processed Fruits and Vegetables

• Discussion Paper on the Standardization of Dry and Dried Produce

• Status of work on the revision of Codex Standards for Processed Fruits and Vegetables

Each issue listed will be fully described in documents distributed, or to be distributed, by the Secretariat prior to the Meeting. Members of the public may access or request copies of these documents (see ADDRESSES).

Public Meeting

At the August 12, 2014 public meeting, draft U.S. positions on the agenda items will be described and discussed, and attendees will have the opportunity to pose questions and offer comments. Written comments may be offered at the meeting or sent to the U.S. Delegate for the 27th session of CCPFV, Dorian LaFond (see ADDRESSES). Written comments should state that they relate to activities of the 27th session of CCPFV.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on July 2, 2014.
Mary Frances Lowe,
U.S. Manager for Codex Alimentarius.

[FR Doc. 2014-15912 Filed 7-7-14; 8:45 am]

BILLING CODE 3410-DM-P